NATIONAL AERONAUTICS AND SPACE ADMINISTRATION

[Notice (00-050)]

Notice of Prospective Patent License

AGENCY: National Aeronautics and Space Administration.

ACTION: Notice of prospective patent license.

SUMMARY: NASA hereby gives notice that Cognitive Technologies, LLC, of Purcellville, VA, has applied for an exclusive license to practice the inventions described and claimed in U.S. Patent Number 5,377,100, entitled “A METHOD OF ENCOURAGING ATTENTION BY CORRELATING VIDEO GAME DIFFICULTY WITH ATTENTION LEVEL,” and NASA Case No. LAR 15817-1, entitled “A METHOD OF ENCOURAGING PHYSIOLOGICAL SELF-REGULATION THROUGH MODULATION OF AN OPERATOR'S CONTROL INPUT TO A VIDEO GAME OR TRAINING SIMULATOR,” both of which are assigned to the United States of America as represented by the Administrator of the National Aeronautics and Space Administration. Written objections to the prospective grant of a license should be sent to Langley Research Center.

DATES: Responses to this notice must be received by July 11, 2000.

FOR FURTHER INFORMATION CONTACT: Helen M. Galus, Patent Attorney, Langley Research Center, Mail Code 212, Hampton, VA 23681-2199; telephone 757-864-3227; facsimile 757-864-9190.

Dated: May 1, 2000.
Edward A. Frankle,
General Counsel.

[FR Doc. 00-11984 Filed 5-11-00; 8:45 am]

BILLING CODE 7510-01-P